NATIONAL FOUNDATION ON THE ARTS AND THE HUMANITIES

Arts Advisory Panel Meeting

AGENCY: National Endowment for the Arts, National Foundation on the Arts and the Humanities.

ACTION: Notice of meeting.

SUMMARY: Pursuant to Section 10(a)(2) of the Federal Advisory Committee Act (Pub. L. 92-463), as amended, notice is hereby given that five meetings of the Arts Advisory Panel to the National Council on the Arts will be held at the Nancy Hanks Center, 1100 Pennsylvania Avenue NW., Washington, DC 20506 as follows (ending time is approximate):

Arts Education (application review): This meeting will be held by teleconference from 3 p.m. to 4 p.m. EDT, and will be closed.

DATES: May 1, 2012.

Design (application review): This meeting, from 9 a.m. to 6 p.m. in Room 627, will be closed.

DATES: May 7-8, 2012.

Design (application review): This meeting, from 9 a.m. to 5:30 p.m. on May 9th, from 9 a.m. to 6 p.m. on May 10th, and from 9 a.m. to 5:30 p.m. on May 11th, in Room 627, will be closed.

DATES: May 9-11, 2012.

Literature (application review): This meeting, from 9 a.m. to 6:30 p.m. on May 9th and from 9 a.m. to 5 p.m. on May 10th, in Room 716, will be closed.

DATES: May 9-10, 2012.

Design (application review): This meeting, from 9 a.m. to 5:30 p.m. on May 14th, from 9 a.m. to 6 p.m. on May 15th, and from 9 a.m. to 5:30 p.m. on May 16th, in Room 627, will be closed.

DATES: May 14-16, 2012.

FOR FURTHER INFORMATION CONTACT: Further information with reference to these meetings can be obtained from Ms. Kathy Plowitz-Worden, Office of Guidelines & Panel Operations, National Endowment for the Arts, Washington, DC 20506, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of Accessibility, National Endowment for the Arts, 1100 Pennsylvania Avenue NW., Washington, DC 20506, 202/682-5532, TDY-TDD 202/682-5496, at least seven (7) days prior to the meeting.

Dated: April 10, 2012.
Kathy Plowitz-Worden,
Panel Coordinator, Panel Operations, National Endowment for the Arts.

[FR Doc. 2012-9045 Filed 4-13-12; 8:45 am]

BILLING CODE 7537-01-P